SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 5, 2011.

Addresses: Send all comments regarding whether this information collection is necessary for the proper performance of the function of the agency, whether the burden estimates are accurate, and if there are ways to minimize the estimated burden and enhance the quality of the collection, to Jules Lichtenstein, Economist, Office of Advocacy, Small Business Administration, 409 3rd Street, 7th Floor, Washington, DC 20416.

For Further Information Contact: Jules Lichtenstein, Economist, Office of Advocacy, 202-205-6537, jules.lichtenstein@sba.gov Curtis B. Rich, Management Analyst, 202-205-7030 curtis.rich@sba.gov.

Supplementary Information: The survey is intended to improve understanding of the relative roles of immigrants and U.S.-born citizens in founding U.S. high-tech companies. The population for the survey is drawn from the Corporate Research Boards database of “gazelle” firms in high-technology which is licensed from Dun & Bradstreet.

Title: “High-Tech Immigrant Entrepreneurship”.

Description of Respondents: Firms in selected industries in the Dun and Bradstreet database.

Form Number: N/A.

Annual Responses: 1,000.

Annual Burden: 167.

Addresses: Send all comments regarding whether this information collection is necessary for the proper performance of the function of the agency, whether the burden estimates are accurate, and if there are ways to minimize the estimated burden and enhance the quality of the collection, to Rachel Newman-Karton, Program Analyst, Office of Small Business Development Centers, Small Business Administration, 409 3rd Street, 6th Floor, Washington, DC 20416.

For Further Information Contact: Rachel Newman-Karton, Program Analyst, Office of Small Business Development Centers, 202-619-1816, Rachel.newman-karton@sba.gov Curtis B. Rich, Management Analyst, 202-205-7030 curtis.rich@sba.gov.

Supplementary Information: The Drug Free Workplace Grantees are required to submit quarterly reports which will report the grantees progress on helping small businesses implement Drug Free Workplace programs including education and training. The SBA requires such information to track the grantees progress to assess the effectiveness of the Drug Free Workplace Program, and report this information to Congress.

Title: “Quarterly Reports file by Grantees of the Drug Free Workplace Program”.

Description of Respondents: Eligible Intermediaries who have received a Drug Free Workplace Program grant.

Form Number: N/A.

Annual Responses: 28.

Annual Burden: 112.

Addresses: Send all comments regarding whether these information collections are necessary for the proper performance of the function of the agency, whether the burden estimates are accurate, and if there are ways to minimize the estimated burden and enhance the quality of the collections, to Gail Hepler, Chief 7(a) Program Branch, Office of Financial Assistance, Small Business Administration, 409 3rd Street, 8th Floor, Washington, DC 20416.

For Further Information Contact: Gail Hepler, Chief 7(a) Program Branch, Office of Financial Assistance, 202-205-7530, gail.hepler@sba.gov Curtis B. Rich, Management Analyst, 202-205-7030 curtis.rich@sba.gov.

Supplementary Information: Since 2005 SBA has been opening the Gulf Opportunity Pilot Loan Program, which provides financing to small businesses in communities located to or re-locating in the parishes/counties that were Presidential declared disaster area as a results of Hurricanes Katrina or Rita plus any parishes/counties contiguous to these parishes. This information is collected from those parishes. This information is collected from those lenders and small business owners who participate or seek to participate in the program and is used for portfolio risk management loan monitoring and lender oversight.

Title: “Gulf Opportunity Pilot Loan Program (GO) Loan Pilot”.

Description of Respondents: Applicants requesting an SBA loan for Katrina or Rita.

Form Number's: 2276 A, B, C, 2281, 2282.

Annual Responses: 580.

Annual Burden: 362.

Supplementary Information: This form is used to assist borrowers (20% or greater owners, corporate officers, or loan guarantors) in preparing their total net worth by listing all of their assets and liabilities, including current income.

Title: “Personal Financial Statement”.

Description of Respondents: Applicants for an SBA Loan.

Form Number: 413.

Annual Responses: 91,937.

Annual Burden: 137,095.

Addresses: Send all comments regarding whether this information collection is necessary for the proper performance of the function of the agency, whether the burden estimates are accurate, and if there are ways to minimize the estimated burden and enhance the quality of the collection, to Holly Schick, Deputy Associate Administrator for Entrepreneurial Development, Small Business Administration, 409 3rd Street, 6th Floor, Washington, DC 20416.

For Further Information Contact: Holly Schick, Deputy Associate Administrator for Entrepreneurial Development, 202-205-7755, holl.schick@sba.gov Curtis B. Rich, Management Analyst, 202-205-7030 curtis.rich@sba.gov.

Supplementary Information: Entrepreneurial Development Management Information (EDMIS) is used to collect and transmit the data provided on SBA Forms 641and 888. EDMIS collects information using a uniform method in order to provide appropriate counseling and training to report to Congress and the President on these programs. Respondents are small business owners and potential small business owners throughout the United States. SBA staff and resource partners also use these forms. Changes made to SBA Form 641 are necessary to comply with data requirements specified in the Small Business Jobs Act 2010 related to international trade assistance. No changes are being made to the Form 888.

Title: “Entrepreneurial Development Management Information System (EDMIS) Counseling Information Form & Management Training Report”.

Description of Respondents: SBA Resource Partners.

Form Number: 641, 888.

Annual Responses: 480,252.

Annual Burden: 233,631.

Jacqueline White,
Chief, Administrative Information Branch.

[FR Doc. 2011-2438 Filed 2-3-11; 8:45 am]

BILLING CODE 8025-01-P